DEPARTMENT OF AGRICULTURE

Forest Service

Cibola National Forest Bluewater Ecosystem Management Project

AGENCY: Forest Service, USDA.

ACTION: Notice of intent to prepare an environmental impact statement.

SUMMARY: The Department of Agriculture, Forest Service will prepare an environmental impact statement for a proposal to initiate vegetation treatments to reach desired conditions within the Bluewater Watershed in the Zuni Mountains on the Mt. Taylor Ranger District within McKinley and Cibola counties in New Mexico.

DATES: Comments concerning the scope of the analysis must be received by August 23, 2002. The draft environmental impact statement is expected September 2002 and the final environmental impact statement is expected December 2002.

ADDRESSES: Send written comments to Planning Staff, Forest Supervisor's Office, Cibola National Forest, 2113, Osuna Rd., NE, Suite A, Albuquerque, NM 87113-1001, Attn: Planning Staff.

For further information, mail correspondence to: Forest Supervisor, Cibola National Forest Supervisor's Office, 2113 Osuna Rd., NE., Suite A, Albuquerque, NM 87113-1001, phone (505) 346-3900.

FOR FURTHER INFORMATION CONTACT: Forest Supervisor, Cibola National Forest Supervisor's Office, 2113 Osuna Rd., NE., Suite A, Albuquerque, NM 87113-1001, phone (505) 346-3900.

SUPPLEMENTARY INFORMATION:

Purpose and Need for Action

The purpose and need of the Proposed Action for the Bluewater Ecosystem Management Project, Mt. Taylor Ranger District, Cibola National Forest is to:

• Create conditions where wildfire intensities allow fire to resume its natural ecological role and intensity in the forest mosaic of the Bluewater area within the framework of watershed restoration.

• Create a condition where wildfire intensities in the Bluewater wildland-urban interface are at a level where fire suppression forces can safely remain on site in the face of an advancing fire.

Proposed Action

The USDA Forest Service, Cibola National Forest, Mt. Taylor Ranger District proposes to initiate vegetation treatments to reach desired conditions within the Bluewater Watershed in the Zuni Mountains. The proposed project would be implemented over a period of 5 to 7 years. All endangered, threatened and sensitive species habitat will be surveyed prior to treatment. All cultural resource surveys will be conducted prior to treatment.

No new roads would be constructed under any of the proposed treatments, existing roads will be used. Some overland access to remove material will be allowed under strict contract or permit administration. These access routes will be rehabilitated following use. The following vegetation treatments are proposed:

Piñon/Juniper Wildland Urban Interface

The Piñon/juniper WUI (Wildland Urban Interface) is found along the northern forest boundary just south and west of the Village of Bluewater.

This treatment would restore the grassland and shrub vegetation community and reduce fire hazard in selected piñon-juniper invaded areas along the WUI. Approximately 770 acres of piñon/juniper would be treated through personal use and commercial fuel wood harvest. Groups and corridors of ponderosa pine and piñon/juniper will remain scattered throughout the area. In addition, patches of trees on north and east facing slopes five acres in size and at least 300 feet wide will be retained for thermal and hiding cover for large mammals. Non-useable forest products (i.e. small trees and limbs) will be treated by prescribed burning.

Treatments are expected to take 3-7 years to complete.

Maintenance of Piñon/Juniper Control Units

There are three areas of piñon/juniper control units along the wildland urban interface, totaling approximately 2,475 acres, that were originally treated in 1968 or 1971 to enhance rangeland production. Under this prescription the original treatment areas would be maintained by removing most conifer tree vegetation to enhance the grassland/shrub community and reduce fuel continuity. Groups and corridors of conifer species left from the original treatment would be maintained. In addition, hiding and thermal cover may be maintained in 5-acre patches where appropriate to benefit wildlife. Trees will be removed mechanically and non-useable forest products (i.e. small trees and limbs) will be treated by burning. The treatment will be implemented in years 3 to 5.

Fuelbreak

The proposed action will treat approximately 12.5 miles (roughly 652 acres) of wildland urban interface along the northern boundary of the project area. These areas are primarily piñon/juniper vegetation types with some ponderosa pine. The objective is to create a 400-foot wide fuelbreak to reduce the continuity of crown fuels and lesten the probability of high intensity crown fire spreading to adjacent homes and other structures. Because natural features will be incorporated when present, fuelbreak treatments will not always be 400 feet wide. Tree density will be reduced by removing primarily smaller diameter trees. The largest diameter trees remain on site after treatment. Non-useable forest products (i.e. small trees and limbs) will be treated by prescribed burning. The burning of slash is normally conducted one or two seasons after treatment activities.

Upland Meadow Treatments

These treatments are designed to re-establish upland meadows to their pre-fire suppression condition based on soil type. The treatment areas were either (1) attempted to be reforested during the mid to late 1980's or (2) have been invaded by conifer species as a result of heavy historic grazing and fire suppression. Only large diameter ponderosa pine and trees adjacent to historic tree evidence (large diameter logs and stumps) will be retained.

Approximately 1,900 acres will be treated by mechanical means (hand felling, mechanical sheer). Roughly 380 acres will be treated each year for five successive years. Non-useable forest products (i.e. small trees and limbs) will be treated by prescribed burning.

Ponderosa Pine Uneven-Aged Management

This treatment constitutes the predominant vegetation treatment proposed for the Bluewater Ecosystem Management Project. The primary objective of this treatment in the ponderosa pine ecosystem is to create conditions where wildfire intensities allow fire to resume its natural role and intensity in the forest mosaic within the framework of watershed restoration.

Approximately 18,809 acres are proposed for vegetation treatments that will reduce the number of trees within treatment blocks. Treatment blocks will be delineated and prioritized based on stand characteristics, fire risk, access availability, and wildlife objectives.

Approximately (1,960 acres) will be managed for higher tree density to meet northern goshawk habitat standards and guidelines for nesting and post-fledging family areas as specified in the Cibola Forest Plan.

The larger trees will be left standing after treatment. Thinning from below (removing smaller diameter trees) will create a non-uniform, clumpy structure with all ages and all species (pine, juniper, oak, etc.) represented across the landscape. Some groups of trees with interlocking crowns will be retained. Tree groups may consist of any age-class. Large woody material (snags, logs, tree limbs) will be retained across the landscape in accordance with the Cibola Forest Plan standards and guidelines. All oak greater than 10 inches would be retained. Stand openings (1 to 4 acres in size) will be re-established or maintained where they previously existed.

Useable wood products will be made available to the public through personal use permits or commercial sales. Non-useable forest products (i.e. small trees and limbs) will be treated by prescribed burning.

Possible Alternatives

Possible alternatives to the proposed action include: (1) Alternate methods of slash treatment and (2) taking no action to allow fire to resume its natural role within the ecosystem and to create conditions along the wildland urban interface, which will allow fire suppression forces to remain and defend property against wildfire. The no action alternative would also exclude the use of various methods of vegetation treatments to reach the desired conditions.

Responsible Official

The responsible official is Liz Agpaoa, Forest Supervisor, Cibola National Forest Supervisor's Office, 2113 Osuna Rd., NE., Suite A., Albuquerque, NM 87113-1001.

Nature of Decision To Be Made

The Forest Supervisor, as the Responsible Official, will:

1. Select the Proposed Action or an alternative.

2. Determine what mitigation measures will be needed to protect resources.

Scoping Process

Public participation will be important at several times during the analysis. The first time is during the scoping period [Reviewer may wish to refer to the Council on Environmental Quality Regulations for implementing the procedural provisions of the National Environment Policy Act (CFR) at 40 CFR 1501.7]. The Agency will be seeking written issues with the Proposed Action from Federal, State, and local agencies, any affected Indian tribes, and other individuals who may be interested in or affected by the Proposed Action. The U.S. Fish and Wildlife Service, Department of the Interior, will be invited to participate as a cooperating agency to evaluate potential impacts to threatened and endangered species habitat if any such species are found to exist in the potential treatment areas. This input will be used to develop additional alternatives. The scoping process includes:

• Identifying potential issues;

• Selecting significant issues with the Proposed Action, needing in-depth analysis;

• Eliminating insignificant issues; issues that have been analyzed and documented in a previous EIS, issues that controvert the need for the Proposed Action, or issues that are outside the authority of the Responsible Official to decide;

• Exploration of additional alternatives based on the issues identified during the scoping process; and

Identification of potential environmental effects of the proposed action and alternatives (i.e. direct, indirect, and cumulative effects and connected actions). A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Section 21)

Dated: July 15, 2002.
Liz Agpaoa,
Forest Supervisor.

[FR Doc. 02-18900 Filed 7-25-02; 8:45 am]

BILLING CODE 3410-11-M